DEPARTMENT OF STATE

2 CFR Part 600

22 CFR Parts 135 and 145

[Public Notice: 9160]

RIN 1400-AD57

Uniform Administrative Requirements, Cost Principles, and Audit Requirements for Federal Awards

AGENCY: Department of State.

ACTION: Final rule.

SUMMARY: The Department of State (“Department”) finalizes its portion of the uniform federal assistance rule published by the Office of Management and Budget.

DATES: This rule is effective on June 2, 2015.

FOR FURTHER INFORMATION CONTACT: Jeffrey D. Johnson, Director, Federal Assistance, 703-812-2526, johnsonjd4@state.gov.

SUPPLEMENTARY INFORMATION: On December 19, 2014, the Office of Management and Budget published an interim final rule that provided comprehensive modifications to the principles and requirements for federal awards. 79 FR 75871. The uniform rules were published as 2 CFR part 200. As part of that rulemaking, the Department of State adopted part 200, along with an agency-specific addendum in a new part 600. In addition, the Department removed 22 CFR parts 135 and 145, as they became obsolete with the publication of the interim final rule. See 79 FR at 76019.

The Department received no relevant comments in response to the rule. Therefore, 2 CFR part 600, as described in the interim final rule, is adopted with no changes.

Regulatory Findings

For the regulatory findings regarding this rulemaking, please refer to the analysis prepared by OMB in the interim final rule, which is incorporated herein. 79 FR at 75876.

List of Subjects in 2 CFR Part 600 and 22 CFR Parts 135 and 145

Accounting, Colleges and universities, Grant programs, Hospitals, Indians, Intergovernmental relations, Nonprofit organizations, Reporting and recordkeeping requirements.

Accordingly, the interim rule adding 2 CFR part 600 and amending 22 CFR parts 135 and 145, which was published at 79 FR 75871 on December 19, 2014, is adopted as a final rule without change.

Dated: May 27, 2015.
Jeffrey D. Johnson,
Director, Federal Assistance, Department of State.

[FR Doc. 2015-13437 Filed 6-1-15; 8:45 am]

BILLING CODE 4710-24-P